DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Martin Biosse-Duplan, D.D.S., Ph.D., Harvard School of Dental Medicine: Based on the report of an investigation conducted by the Harvard School of Medicine (HSM) and Harvard School of Dental Medicine (HSDM), the admission of the Respondent, and additional analysis conducted by ORI in its oversight review, ORI found that Dr. Martin Biosse-Duplan, former Research Fellow, Department of Oral Medicine, Infection, and Immunity, HSDM, engaged in research misconduct in research supported by National Institute of Arthritis and Musculoskeletal and Skin Diseases (NIAMS), National Institutes of Health (NIH), grant R01 AR054450.

ORI found that the Respondent engaged in research misconduct involving one (1) laboratory presentation and two (2) published abstracts:

• Boisse-Duplan, M., Stephens, S., Lai, F.P.L., Oelkers, M., Kitamura, D., Rottner, K., Horne, W., & Baron, R. “The Association Between the Microtubule Plus End Protein EB1 and Cortactin Controls Podosomes and Bone Resorption.” J Bone Min Res 26:Supl.1, pS215.

• Boisse-Duplan, M., Stephens, S., Lai, F.P.L., Oelkers, M., Rottner, K., Horne, W., & Baron, R. “In Osteoclasts, Dynamic Microtubules and their Associated Protein EB1 Control Podosomes and Bone Resorption through Cortactin.” Bone 48:Suppl. 2, pS97.

As a result of HSM's and HSDM's investigation, the data were not presented at the meetings and the experiments reported in the abstracts are being redone.

Specifically, ORI finds that Respondent:

• Falsified Powerpoint slides and spreadsheets for histomorphometric and microCT results by using the values of HS1 knockout (KO) mice and their controls to represent the CathepsinK cre-Cortactin KO mice and their controls; Dr. Biosse-Duplan also switched two sets of numbers between the HS1 KO mice and their controls to falsely demonstrate a difference in bone density when there was none. The numerical data were presented at a lab meeting, and false text was included in two submitted meeting abstracts published in Bone 48:Suppl 2, pS97 and J Bone and Mineral Research 25:Suppl 1, pS215.

Both the Respondent and HHS want to conclude this matter without further expenditure of time or other resources and have entered into a Voluntary Settlement Agreement (Agreement) to resolve this matter.

Dr. Boisse-Duplan has entered into a Voluntary Settlement Agreement and has voluntarily agreed:

(1) That if within two (2) years from the effective date of the Agreement Respondent does receive or apply for PHS support, Respondent agrees to have his research supervised for a period of two (2) years beginning on the date of his employment in a research position in which he receives or applies for PHS support and to notify his employer(s)/institution(s) of the terms of this supervision; Respondent agrees that prior to the submission of an application for PHS support for a research project on which the Respondent's participation is proposed and prior to Respondent's participation in any capacity on PHS-supported research, Respondent shall ensure that a plan for supervision of Respondent's duties is submitted to ORI for approval; the supervision plan must be designed to ensure the scientific integrity of Respondent's research contribution; Respondent agrees that he shall not participate in any PHS-supported research until such a supervision plan is submitted to and approved by ORI; Respondent agrees to maintain responsibility for compliance with the agreed upon supervision plan;

(2) That if within two (2) years from the effective date of the Agreement, Respondent does receive or apply for PHS support, Respondent agrees that any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract; and

(3) To exclude himself voluntarily from serving in any advisory capacity to PHS including, but not limited to, service on any PHS advisory committee, board, and/or peer review committee, or as a consultant for a period of two (2) years, beginning on December 4, 2012.

FOR FURTHER INFORMATION CONTACT: Director, Office of Research Integrity, 1101 Wootton Parkway, Suite 750, Rockville, MD 20852, (240) 453-8200.

David E. Wright,
Director, Office of Research Integrity.

[FR Doc. 2012-31275 Filed 12-27-12; 8:45 am]

BILLING CODE 4150-31-P